ENVIRONMENTAL PROTECTION AGENCY

40 CFR Part 52

[EPA-R10-OAR-2017-0597; FRL-9988-51-Region 10]

Air Plan Approval; AK: Fine Particulate Matter Infrastructure Requirements; Correction

AGENCY: Environmental Protection Agency (EPA).

ACTION: Final rule; correction.

SUMMARY: The Environmental Protection Agency (EPA) issued a final rule on November 27, 2018, entitled “Air Plan Approval; AK: Fine Particulate Matter Infrastructure Requirements.” This document makes a minor change to the November 27, 2018, action to correct a typographical error in the regulatory text for the rule.

DATES: This document is effective on December 27, 2018.

FOR FURTHER INFORMATION CONTACT: Kristin Hall at (206) 553-6357, hall.kristin@epa.gov.

SUPPLEMENTARY INFORMATION:

Background

The EPA issued “Air Plan Approval; AK: Fine Particulate Matter Infrastructure Requirements” as a final rule on November 27, 2018 (83 FR 60769). This final rule approved the Alaska SIP as meeting specific infrastructure requirements for the fine particulate matter (PM2.5) national ambient air quality standards (NAAQS). For more information, please see the EPA's rulemaking action at https://www.regulations.gov under Docket ID No. EPA-R10-OAR-2017-0597, and the Federal Register publications for the proposed rule on January 23, 2018 (83 FR 3101), and the final rule on November 27, 2018 (83 FR 60769).

Need for Correction

As published, the regulatory text in the final rule contains a minor error that, if not corrected, prevents publication of the regulatory amendment in the Code of Federal Regulations. The EPA finds that there is good cause to make this correction without providing for notice and comment because neither notice nor comment is necessary and would not be in the public interest due to the nature of the correction which is minor, technical and does not change the obligations already existing in the rule. The EPA finds that the corrections are merely correcting the wording in the amendatory language so that the provision may be published in the Code of Federal Regulations.

Corrections of Publication

In the regulatory text to the final rule for “Air Plan Approval; AK: Fine Particulate Matter Infrastructure Requirements” published November 27, 2018 (83 FR 60769), the EPA is correcting a minor error in amendatory instruction number 2.b. Instruction number 2.b. reads “Adding entries `Infrastructure Requirements—2012 PM2.5 NAAQS' and `Infrastructure Requirements—1997, 2006, and 2012 PM2.5 NAAQS' after entry `Interstate Transport Requirements—2010 SO2 NAAQS'.” However, there is no entry “Interstate Transport Requirements—2010 SO2 NAAQS”. The EPA is correcting this error so that amendatory instruction number 2.b. reads “Adding entries `Infrastructure Requirements—2012 PM2.5 NAAQS' and `Infrastructure Requirements—1997, 2006, and 2012 PM2.5 NAAQS' after entry `Infrastructure Requirements—2010 SO2 NAAQS' ”.

In FR Doc. 2018-25681, published November 27, 2018 (83 FR 60769), make the following correction:

§ 52.70 [Corrected]

1. On page 60773, in the right column, in the amendatory instruction for § 52.70, amendatory instruction 2.b. is corrected to read “Adding entries “Infrastructure Requirements—2012 PM2.5 NAAQS” and “Infrastructure Requirements—1997, 2006, and 2012 PM2.5 NAAQS” after entry “Infrastructure Requirements—2010 SO2 NAAQS” ”.

Dated: December 13, 2018.
Chris Hladick,
Regional Administrator, Region 10.

[FR Doc. 2018-27909 Filed 12-26-18; 8:45 am]

BILLING CODE 6560-50-P